DEPARTMENT OF COMMERCE

Foreign-Trade Zones Board

[B-10-2021]

Foreign-Trade Zone (FTZ) 49—Newark and Elizabeth, New Jersey; Authorization of Production Activity, Celgene Corporation (Biopharmaceuticals), Warren and Summit, New Jersey

On February 12, 2021, Celgene Corporation submitted a notification of proposed production activity to the FTZ Board for its facilities within Subzone 49U, in Warren and Summit, New Jersey.

The notification was processed in accordance with the regulations of the FTZ Board (15 CFR part 400), including notice in the Federal Register inviting public comment (86 FR 11496, February 25, 2021). On June 14, 2021, the applicant was notified of the FTZ Board's decision that no further review of the activity is warranted at this time. The production activity described in the notification was authorized, subject to the FTZ Act and the FTZ Board's regulations, including Section 400.14.

Dated: June 14, 2021.
Andrew McGilvray,
Executive Secretary.

[FR Doc. 2021-12806 Filed 6-16-21; 8:45 am]

BILLING CODE 3510-DS-P